DEPARTMENT OF COMMERCE

National Oceanic and Atmospheric Administration

RIN 0648-XF192

Pacific Fishery Management Council; Public Meeting

AGENCY: National Marine Fisheries Service (NMFS), National Oceanic and Atmospheric Administration (NOAA), Commerce.

ACTION: Notice of public meeting.

SUMMARY: The Pacific Fishery Management Council (Pacific Council) will convene a Stock Assessment Review (STAR) Panel meeting to review the Pacific sardine stock assessment.

DATES: The STAR Panel meeting will be held Tuesday, February 21 through Friday February 24, 2017. The meeting will begin at 10 a.m. on the first day, and at 8 a.m. each subsequent day. The meeting will conclude each day at 5 p.m. or when business for the day has been completed.

ADDRESSES: The meeting will be held in the Pacific Conference Room of the NOAA Southwest Fisheries Science Center, 8901 La Jolla Shores Dr., La Jolla, CA 92037-1508.

Council address: Pacific Fishery Management Council, 7700 NE Ambassador Place, Suite 101, Portland, OR 97220; telephone: (503) 820-2280.

FOR FURTHER INFORMATION CONTACT: Kerry Griffin, Staff Officer; telephone: (503) 820-2409.

SUPPLEMENTARY INFORMATION: The primary purpose of the meeting is to review the 2017 stock assessment for Pacific sardine. The review panel will consist of three members of the Pacific Council's Scientific and Statistical Committee's Subcommittee on Coastal Pelagic Species (CPS), and two independent experts. The Pacific Council will use the 2017 assessment to establish Pacific sardine fishery management measures and harvest specifications for the 2017-18 fishing year. The Pacific sardine fishing year begins July 1 and ends the following June 30 each year. Representatives of the Council's CPS Management Team and the CPS Advisory Subpanel will also participate in the review, as advisers.

Action will be restricted to those issues specifically listed in this notice and any issues arising after publication of this notice that require emergency action under section 305(c) of the Magnuson-Stevens Fishery Conservation and Management Act, provided the public has been notified of the panel's intent to take final action to address the emergency.

Special Accommodations

This meeting is physically accessible to people with disabilities. Requests for sign language interpretation or other auxiliary aids should be directed to Mr. Dale Sweetnam, (858) 546-7170, at least 10 days prior to the meeting date.

Dated: January 27, 2017.
Tracey L. Thompson,
Acting Deputy Director, Office of Sustainable Fisheries, National Marine Fisheries Service.

[FR Doc. 2017-02104 Filed 1-31-17; 8:45 am]

BILLING CODE 3510-22-P